ENVIRONMENTAL PROTECTION AGENCY

[FRL-7136-8]

Environmental Laboratory Advisory Board Meeting Dates, and Agenda

AGENCY: Environmental Protection Agency.

ACTION: Notice of Teleconference Meetings.

SUMMARY: The Environmental Protection Agency's Environmental Laboratory Advisory Board (ELAB) will have teleconference meetings on the third Wednesday of each month for 2002, with the first meeting occurring February 20, at 11 a.m. EST to discuss the ideas and views presented at the previous ELAB meetings, as well as new business. Items to be discussed include; recommendations to restructure the National Environmental Laboratory Advisory Board (NELAC) to allow it to better serve the future needs of EPA and the States; approaches to win acceptance and bring smaller environmental laboratories into a national program for laboratory accreditation; and recommendations on EPA's future role in NELAC. ELAB is soliciting input from the public on these and other issues related to the National Environmental Laboratory Accreditation Program (NELAP) and the NELAC standards. Written comments on NELAP laboratory accreditation and the NELAC standards are encouraged and should be sent to Edward Kantor, DFO, P.O. Box 93478, Las Vegas NV 89193, or faxed to (702) 798-2261 or emailed to kantor.edward@epa.gov. Members of the public are invited to listen the teleconference calls, and time permitting, will be allowed to comment on issues discussed during this and previous ELAB meetings. Those persons interested in attending this teleconference should call Edward Kantor at 702-798-2690 to get the conference call in number. The number of lines are limited and will be distributed on a first come, first serve basis. Preferences will be given to a group wishing to attend over an individual.

Dated January 23, 2002.
John G. Lyon,
Director, Environmental Sciences Division, National Environmental Research Laboratory.

[FR Doc. 02-2511 Filed 1-31-02; 8:45 am]

BILLING CODE 6560-50-P